NATIONAL SCIENCE FOUNDATION

Notice of Permit Modification Received Under the Antarctic Conservation Act of 1978 (Pub. L. 95-541)

AGENCY: National Science Foundation.

ACTION: Notice of Permit Modification Request Received under the Antarctic Conservation Act of 1978, Pub. Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by September 17, 2014. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a waste permit (ACA 2014-007) to Daniel McGrath from Earth Vision Trust/Lindblad Expeditions on October 23, 2013. The issued permit allows the applicant, Earth Vision Trust, to install a maximum of 10 cameras distributed between 5 sites that are often visited by tourists. No more than 2 cameras are installed at any one site. Cameras are placed in such a way so as to not disrupt wildlife. Cameras are secured using 6-8 rock bolts drilled into rock outcrops. Each camera is powered by a 10w solar panel and a sealed 12 volt 55 AH gel battery. The batteries are housed in a leak proof plastic case. The cameras will remain deployed for 5 years total and will be completely removed (including bolts and power sources) at the conclusion of the project. Each camera is visited every 1-2 years to retrieve data, make necessary repairs, and remove non-functioning equipment. The cameras are used to measure ice velocity and monitor the calving front of numerous outlet glaciers. The data will help advance scientific knowledge on the mechanics and pace of glacial retreat. Images gained from the cameras will also be used in global outreach campaigns to educate the public about the speed of climate change's impact on the earth.

Now the applicant proposes a modification to his permit to deploy two more cameras at one site on Amsler Island, proximal to Palmer Station, accessed by zodiacs launched from Lindblad Expeditions' National Geographic Explorer ship.

Location: Amsler Island, Antarctic Peninsula.

DATES:

November 1, 2014 to March 21, 2017.

Nadene G. Kennedy,
Polar Coordination Specialist, Division of Polar Programs.

[FR Doc. 2014-19565 Filed 8-15-14; 8:45 am]

BILLING CODE 7555-01-P